NATIONAL SCIENCE FOUNDATION

Proposal Review Panel for International Science and Engineering; Notice of Meeting

In accordance with the Federal Advisory Committee Act (Pub. L. 92-463, as amended), the National Science Foundation (NSF) announces the following meeting:

Name and Committee Code: Proposal Review Panel for Office of International Science and Engineering—PIRE: Building Extreme Weather Resiliency and Global Community Resiliency Through Improved Weather and Climate Prediction and Emergency Response Strategies—(#10749) (Site Visit).

Date/Time: May 16, 2018 8:00 a.m.-9:30 p.m.; May 17, 2018 8:00 a.m.-4:30 p.m.

Place: SUNY at Albany, Atmospheric Sciences Research Center, 1400 Washington Avenue, Albany, NY 12222-0100.

Type of Meeting: Part open.

Contact Person: Cassandra Dudka, PIRE Program Manager, National Science Foundation, 2415 Eisenhower Avenue, Alexandria, VA 22314; Telephone 703-292-7250.

Purpose of Meeting: NSF site visit to conduct a review during year 3 of the five-year award period. To conduct an in-depth evaluation of performance, to assess progress towards goals, and to provide recommendations.

Agenda: See attached.

Reason for Closing: Topics to be discussed and evaluated during closed portions of the site review will include information of a proprietary or confidential nature, including technical information; and information on personnel. These matters are exempt under 5 U.S.C.552b(c), (4) and (6) of the Government in the Sunshine Act.

Dated: April 2, 2018.
Crystal Robinson,
Committee Management Officer.

NSF Sunny Albany Site Visit Agenda

May 16, 2018

8:00 a.m.-10:00 a.m.:

Welcome remarks from Vice President for Research

—James Diaz (10 min.)

—Introductions (15 min.)

—PIRE Rationale and Goals (Dr. Everette Joseph, 10 min.)

—PIRE Administration and Management (Li Zhang, 15 min.)

• Summer Program at UAlbany: Language & Cultural programs

• Summer Program in Taiwan

• PIRE Taiwanese Partners

• Website

• Data server

• Cohort building experience

• Horizontal mentorships experience

—PIRE Science Research Overview (Dr. Everette Joseph, 15 min.)

—Budget Plans (Jessie and Cathy, 10 min.)

—PIRE Evaluation (15 min.)

10:00 a.m.-12:00 p.m.:

—PIRE Undergraduate Students Poster Session

—PIRE Graduate Students Presentation

—Facilities and Physical Infrastructure

12 p.m.-12:30 p.m.: NSF Executive Session (CLOSED)

12:30 p.m.-1:30 p.m.: Lunch—Discussion with Students

1:30 p.m.-3:00 p.m.:

—Integrating Research and Education

—Integrating with Taiwanese counterparts

—Integrating with Howard University

—Integrating Diversity

—Institutionalization of PIRE Project

—Cohort Experience Building

—Developing Human Resources

3:00 p.m.-3:30 p.m.: NSF Executive Session/Break (CLOSED)

3:30 p.m.-4:15 p.m.: Partnerships

4:15 p.m.-5:15 p.m.: Wrap up

5:15 p.m.-6:15 p.m.: Executive Session/Break

6:15 p.m.: Critical Feedback Provided to PI

8:00 p.m.-9:30 p.m.: NSF Executive Session/Working Dinner (CLOSED)

May 17, 2018

8:00 a.m.-9:00 a.m.:

—Meeting with Administrators and Investigator (CLOSED)

—Meeting with James Diaz and Everette (Topic: Institutional Support)

9:00 a.m.-10:00 a.m.: Summary/Proposing Team to Critical Feedback

10:00 a.m.-4:00 p.m.: Site Review Team Prepares Site Visit Report (Working Lunch Provided)

4:15 p.m.: Presentation of Site Visit Report to Principal Investigator

[FR Doc. 2018-06938 Filed 4-4-18; 8:45 am]

BILLING CODE 7555-01-P